MEDICARE PAYMENT ADVISORY COMMISSION

Commission Meeting

AGENCY: Medicare Payment Advisory Commission.

ACTION: Notice of meeting.

SUMMARY: Notice is hereby given of the Medicare Payment Advisory Commission (MedPAC) public meeting on Thursday, September 13, 2001, and Friday, September 14, 2001, at the Ronald Reagan Building, International Trade Center, 1300 Pennsylvania Avenue, NW., Washington, DC. The meeting will begin at 10 a.m. on September 1, and at 9 a.m. on September 14.

Congress directed MedPAC in the Balanced Budget Refinement Act of 1999 (BBRA) to evaluate the level of burden placed on providers through federal regulations and make recommendations to reduce the regulatory complexity of the Medicare program. On Thursday, September 13, MedPAC will discuss the regulatory complexity of the Medicare program. During this meeting, invited witnesses will address how changes in law and regulation may improve the program, including improvement of the rules regarding quality of care requirements, billing, compliance, fraud and abuse, and beneficiary protections. Witnesses will also be asked to provide recommendations on how the Congress and the Secretary of Health and Human Services can reduce regulatory burden and complexity for Medicare beneficiaries, providers, and health plans. Further information on the full agenda for the two day meeting and list of participating witnesses will be posted on the MedPAC website at www.medpac.gov prior to the meeting. We will publish another federal register notice in August.

To inform the Commission, MedPAC invites the public to provide written comments on regulatory burden related to Medicare. Respondents are asked to address the following questions:

1. Do current regulations help Medicare fulfill its responsibility to be a prudent purchaser of health care services and to promote access to quality care for its beneficiaries? What approaches do other payers use that could be useful for Medicare?

2. How do Medicare's regulatory requirements (and the resources you need to comply with them) compare with those of other payers?

3. How has the regulatory complexity of the Medicare program changed in recent years? How have these changes affected the delivery of care, including clinical innovation?

4. Have increased fraud and abuse investigative actions affected your service to Medicare beneficiaries? How can Medicare deter improper billing in a non-punitive environment?

5. What is the frequency and nature of your interactions with administrative personnel from the Centers for Medicare and Medicaid Services (CMS), formerly known as the Health Care Financing Administration (HCFA), its fiscal intermediaries and carriers as well as other Medicare contractors? How do these interactions compare with other insurers?

6. What aspects of Medicare do you find most/least burdensome?

7. What specific steps would you recommend to decrease regulatory complexity and burden in Medicare? How could those steps be implemented?

People or organizations wishing to submit a written statement for the printed record of the hearing should submit no more than five (5) one-sided, single-spaced pages of their statement, along with an IBM compatible 3.5-inch diskette in WordPerfect or MS Word format with their name, address, and hearing date noted on the label, by close of business, Friday, August 17, 2001, to Murray N. Ross, Ph.D., Executive Director, Medicare Payment Advisory Commission, 1730 K Street, NW., Suite 800, Washington, DC 20006. No attachments will be accepted.

Murray N. Ross,
Executive Director.

[FR Doc. 01-18933 Filed 7-27-01; 8:45 am]

BILLING CODE 6820-BW-M